DEPARTMENT OF ENERGY

Federal Energy Regulatory Commission

[Project No. 2407-164]

Alabama Power Company; Notice of Application Accepted for Filing, Soliciting Comments, Motions To Intervene, and Protests

Take notice that the following hydroelectric application has been filed with the Commission and is available for public inspection:

a. Type of Application: Non-capacity amendment of license and temporary variance of reservoir elevation levels.

b. Project No.: 2407-164.

c. Date Filed: February 8, 2018.

d. Applicants: Alabama Power Company.

e. Name of Project: Yates and Thurlow Hydroelectric Project.

f. Location: Tallapoosa River in Tallapoosa and Elmore counties, Alabama.

g. Filed Pursuant to: Federal Power Act, 16 U.S.C. 791a-825r.

h. Applicant Contact: Mr. James F. Crew, Hydro Services Manager, Alabama Power Company, 600 North 18th Street, 16N-8180, Birmingham, AL 35203, (205) 257-4265, jfcrew@southernco.com.

i. FERC Contact: Mr. M. Joseph Fayyad, (202) 502-8759, Mo.Fayyad@ferc.gov.

j. Deadline for filing comments, motions to intervene, and protests is 30 days from the issuance date of this notice by the Commission.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2407-164.

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

k. Description of Request: The Alabama Power Company (licensee) requests Commission approval for an amendment to its current license to replace the existing automatic spillway crest gates with Obermeyer gates at the project's Thurlow Dam and install a trash boom. The licensee states the proposed work is to eliminate safety hazards to personnel and more effectively manage reservoir levels and spill during flood events.

In order to install the Obermeyer gates and trash boom, the licensee also requests a temporary variance from the normal reservoir elevations for the Thurlow impoundment as required by Article 402 of the license. Article 402 requires, in part, the licensee to operate the project so the maximum drawdown at the Thurlow impoundment does not exceed 1 foot below the normal pool elevation of 288.7 feet mean sea level (msl). The licensee proposes to temporarily draw down the Thurlow impoundment to an approximate elevation of 278.7 feet msl for a five-month period from June 1, 2018 through October 31, 2018, and from June 1, 2019 through October 31, 2019.

l. Locations of the Application: A copy of the application is available for inspection and reproduction at the Commission's Public Reference Room, located at 888 First Street NE, Room 2A, Washington, DC 20426, or by calling (202) 502-8371. This filing may also be viewed on the Commission's website at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above.

m. Individuals desiring to be included on the Commission's mailing list should so indicate by writing to the Secretary of the Commission.

n. Comments, Motions to Intervene, or Protests: Anyone may submit comments, a motion to intervene, or a protest in accordance with the requirements of Rules of Practice and Procedure, 18 CFR 385.210, .211, .214. In determining the appropriate action to take, the Commission will consider all protests or other comments filed, but only those who file a motion to intervene in accordance with the Commission's Rules may become a party to the proceeding. Any comments, motions to intervene, or protests must be received on or before the specified comment date for the particular application.

o. Filing and Service of Responsive Documents: Any filing must (1) bear in all capital letters the title “COMMENTS”, “PROTEST”, or “MOTION TO INTERVENE,” (2) set forth in the heading, the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: March 13, 2018.
Kimberly D. Bose,
Secretary.

[FR Doc. 2018-05492 Filed 3-16-18; 8:45 am]

BILLING CODE 6717-01-P